ENVIRONMENTAL PROTECTION AGENCY

40 CFR Part 372

Methyl Mercaptan; Toxic Chemicals Release Reporting; Community Right-to-Know; Stay of Reporting Requirements

CFR Correction

In Title 40 of the Code of Federal Regulations, Parts 300 to 399, revised as of July 1, 2011, on page 496, in § 372.65, under the editorial note, an effective date note is added to read as follows:

Effective Date Note: At 59 FR 43050, Aug. 22, 1994, in § 372.65, in paragraph (a), the methyl mercaptan entry and in paragraph (b), the entry for CAS No. 74-93-1 were stayed indefinitely.

[FR Doc. 2011-29381 Filed 11-10-11; 8:45 am]

BILLING CODE 1505-01-D